Title 3—

The President

Proclamation 8977 of May 10, 2013

National Defense Transportation Day and National Transportation Week, 2013

By the President of the United States of America

A Proclamation

As a Nation, we have no task more urgent than creating good jobs, strengthening our economy, and reigniting the thriving middle class that has always been the true engine of America's growth. To meet these goals, we need to rebuild the infrastructure that powers our industries. We need to make our cities more connected and more resilient to the challenges we face. We need to restore our roads, bridges, and ports—transportation networks that are essential to making the United States the best place in the world to do business.

In the past 4 years, we have taken important steps down that path. But even now, too many of our rail lines are slow and backed up. Too many of our bridges remain unsafe. We know our country can do better—which is why I proposed a “Fix-It-First” program earlier this year to put people to work on our most pressing transportation projects. Alongside it, I also proposed a Partnership to Rebuild America, which would attract private capital to upgrade the infrastructure our businesses need most. These initiatives would help modernize communities, expand small businesses, and get more construction workers back on the job.

We also recognize that repairing our transportation networks is about more than economic growth—it is about security. At a time when our cities face unprecedented threats and hazards, we must do more to ensure our first responders and our service members can respond effectively during crisis. That means protecting our critical infrastructure and repairing roads and bridges that put our people at risk.

Together, we can make meaningful progress toward those goals. Let us recommit this week to revitalizing transportation, pioneering new solutions to tough challenges, and making lasting investments in America's infrastructure.

In recognition of the importance of our Nation's transportation infrastructure, and of the men and women who build, maintain, and utilize it, the Congress has requested, by joint resolution approved May 16, 1957, as amended (36 U.S.C. 120), that the President designate the third Friday in May of each year as “National Defense Transportation Day,” and, by joint resolution approved May 14, 1962, as amended (36 U.S.C. 133), that the week during which that Friday falls be designated as “National Transportation Week.”

NOW, THEREFORE, I, BARACK OBAMA, President of the United States of America, do hereby proclaim Friday, May 17, 2013, as National Defense Transportation Day and May 12 through May 18, 2013, as National Transportation Week. I call upon all Americans to recognize the importance of our Nation's transportation infrastructure and to acknowledge the contributions of those who build, operate, and maintain it.

IN WITNESS WHEREOF, I have hereunto set my hand this tenth day of May, in the year of our Lord two thousand thirteen, and of the Independence of the United States of America the two hundred and thirty-seventh.

[FR Doc. 2013-11754

Filed 5-14-13; 11:15 am]

Billing code 3295-F3